NUCLEAR REGULATORY COMMISSION

[Docket No. 72-17]

Portland General Electric; Notice of Issuance of Amendment to Materials License SNM-2509

AGENCY: Nuclear Regulatory Commission.

ACTION: Notice of Issuance of Amendment to Materials License SNM-2509.

Effective Date: December 22, 2005.

FOR FURTHER INFORMATION CONTACT: Christopher M. Regan, Senior Project Manager, Spent Fuel Project Office, Office of Nuclear Material Safety and Safeguards, U.S. Nuclear Regulatory Commission, Washington, DC 20555. Telephone: (301) 415-1179; Fax number: (301) 415-1179; E-mail: cmr1@nrc.gov.

SUPPLEMENTARY INFORMATION: The U.S. Nuclear Regulatory Commission (NRC or the Commission) has issued Amendment 5 to Materials License No. SNM-2509 held by Portland General Electric Company (PGE) to delete from Technical Specification (TS) section 5.5.2, “Radioactive Effluent Control Program,” the sentence from TS 5.5.2.b. that reads, “The Trojan ISFSI may be included in the environmental monitoring program for the Trojan Nuclear Plant,” and TS 5.5.2.c. in its entirety, which requires an annual report to be submitted pursuant to 10 CFR 72.44(d)(3). Approval of these changes to the TS in conjunction with an exemption request approved on November 9, 2005, relieves PGE from the requirement to submit an annual radioactive effluent report for the Trojan Independent Spent Fuel Storage Installation (ISFSI), located in Columbia County, Oregon.

This amendment complies with the standards and requirements of the Atomic Energy Act of 1954, as amended (the Act), and the Commission's rules and regulations. The Commission has made appropriate findings as required by the Act and the Commission's rules and regulations in 10 CFR Chapter I, which are set forth in the license amendment. This amendment satisfied the criteria specified in 10 CFR 51.22(c)(10)(ii) and 10 CFR 51.22(c)(11) for a categorical exclusion from the requirements to perform an environmental assessment or to prepare an environmental impact statement.

In accordance with 10 CFR 72.46(b)(2), a determination has been made that the amendment does not present a genuine issue as to whether public health and safety will be significantly affected. Therefore, the publication of a notice of proposed action and an opportunity for hearing or a notice of hearing is not warranted. Notice is hereby given of the right of interested persons to request a hearing on whether the action should be rescinded or modified.

Further Information

The NRC has prepared a Safety Evaluation Report (SER) that documents the information that was reviewed and NRC's conclusion. In accordance with 10 CFR 2.390 of NRC's “Rules of Practice,” final NRC records and documents regarding this proposed action, including the amendment request dated July 6, 2005, and the SER are publically available in the records component of NRC's Agencywide Documents Access and Management System (ADAMS). These documents may be inspected at NRC's Public Electronic Reading Room at http://www.nrc.gov/reading-rm/adams.html. These documents may also be viewed electronically on the public computers located at the NRC's Public Document Room (PDR), O1F21, One White Flint North, 11555 Rockville Pike, Rockville, MD 20852. The PDR reproduction contractor will copy documents for a fee. Persons who do not have access to ADAMS or who encounter problems in accessing the documents located in ADAMS, should contact the NRC PDR Reference staff by telephone at 1-800-397-4209 or (301) 415-4737, or by e-mail to pdr@nrc.gov.

Dated at Rockville, Maryland, this 9th day of November, 2005.
For the Nuclear Regulatory Commission.
Christopher M. Regan,
Senior Project Manager, Licensing Section, Spent Fuel Project Office, Office of Nuclear Material Safety and Safeguards.

[FR Doc. E5-6415 Filed 11-21-05; 8:45 am]

BILLING CODE 7590-01-P